DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by July 14, 2025 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Food and Nutrition Service

Title: Supplemental Nutrition Assistance Program (SNAP): Mobile Payment Pilots (MPPs).

OMB Control Number: 0584-0672.

Summary of Collection: Section 4006(e) of the Agricultural Act of 2018 (Pub. L. 115-334) authorizes the Food and Nutrition Service (FNS) to allow up to five Mobile Payment Pilots (MPPs) to allow the use of personal mobile devices, such as cellular phones, tablets and smart watches in place of SNAP Electronic Benefit Transfer (EBT) cards to conduct SNAP transactions. Respondents (SNAP State agencies (State agencies) and their SNAP business partners) will conduct pilots to test the use of mobile payment technologies for the redemption of SNAP benefits by SNAP households at participating retailers, to determine their feasibility and implications for program integrity. FNS will conduct these projects to evaluate whether allowing mobile payments is in the best interest of the Program, and to therefore recommend allowing their use to the Secretary.

Need and Use of the Information: In order to implement this statutory requirement, FNS approved proposals from SNAP State agencies (State agencies) to conduct Mobile Payment Pilots (MPPs) that test the use of mobile payment technology in SNAP and meet several sets of requirements outlined in the Code, such as providing protections to participants that is similar to existing EBT technology, providing price parity between foods purchased with mobile payment technology and those purchased by other methods, ensuring adequate documentation and security measures to deter fraud, and other criteria as determined by FNS.

Description of Respondents: State, Local, or Tribal Government, Business-for-profit, Individuals/Households.

Reporting Burden for State Agencies

Affected Public: State SNAP agencies.

Estimated Number of Respondents: 5 State agencies.

Estimated Number of Responses per Respondent: 5,048.

Estimated Total Annual Responses: 25,240.

Estimated Time per Response: .94.

Estimated Total Annual Burden on Respondents: 23,675.

Reporting Burden for Businesses

Affected Public: Business (Respondent Types: EBT Stakeholders (EBT Processors, SNAP Retailers, Mobile Payment Vendors or Contractors).

Estimated Number of Respondents: 20.

Estimated Number of Responses per Respondent: 12.

Estimated Total Annual Responses: 240.

Estimated Time per Response: 120 hours per response.

Estimated Total Annual Burden on Respondents: 28,800 hours.

Reporting Burden for Individual Households

Affected Public: SNAP Recipients.

Estimated Number of Respondents: 25,000 (15,000 respondents and 10,000 non-respondents).

Estimated Number of Responses per Respondent: .83 responses.

Estimated Total Annual Responses: 30,000 responses.

Estimated Time per Response: .07 hour.

Estimated Total Annual Burden on Respondents: 2,167 hours.

Total Number

Number of Respondents: 25,025.

Frequency of Responses: Reporting: Occasionally; Annually.

Total Burden Hours: 54,642.

Rachelle Ragland-Greene,
Departmental Information Collection Clearance Officer.

[FR Doc. 2025-10811 Filed 6-12-25; 8:45 am]

BILLING CODE 3410-30-P